DEPARTMENT OF THE INTERIOR

Minerals Management Service

[OMB Control Number 1010-0107]

Agency Information Collection Activities: Submitted for Office of Management and Budget (OMB) Review; Comment Request

AGENCY: Minerals Management Service (MMS), Interior.

ACTION: Notice of a revision of a currently approved information collection (OMB Control Number 1010-0107).

SUMMARY: To comply with the Paperwork Reduction Act (PRA) of 1995, we are submitting to OMB for review and approval an information collection request (ICR) titled “30 CFR part 218, Subpart B—Oil and Gas, General” (formerly titled “Designation of Royalty Payment Responsibility”). We are also soliciting comments from the public on this ICR.

DATES: Submit written comments on or before June 7, 2002.

ADDRESSES: Submit written comments to the Office of Information and Regulatory Affairs, OMB, Attention: Desk Officer for the Department of the Interior (OMB Control Number 1010-0107), 725 17th Street, NW, Washington, DC 20503. Also, submit copies of your written comments to Carol Shelby, Regulatory Specialist, Minerals Management Service, MS 320B2, P.O. Box 25165, Denver, Colorado 80225. If you use an overnight courier service, MMS's courier address is Building 85, Room A-614, Denver Federal Center, Denver, Colorado 80225.

FOR FURTHER INFORMATION CONTACT: Carol Shelby, Regulatory Specialist, phone (303) 231-3151 or FAX (303) 231-3385.

SUPPLEMENTARY INFORMATION: Title: 30 CFR Part 218, Subpart B—Oil and Gas, General.

OMB Control Number: 1010-0107.

Bureau Form Numbers: Forms MMS-4425 and MMS-4280.

Abstract: The Department of the Interior (DOI) is responsible for matters relevant to mineral resource development on Federal and Indian lands and the Outer Continental Shelf (OCS). The Secretary of the Interior is responsible for managing the production of minerals from Federal and Indian lands and the OCS, collecting royalties from lessees who produce minerals, and distributing the funds collected in accordance with applicable laws. The Secretary also has an Indian trust responsibility to manage Indian lands and seek advice and information from Indian beneficiaries. MMS performs the royalty management functions for the Secretary.

The Federal Oil and Gas Royalty Simplification and Fairness Act of 1996 (RSFA), Public Law 104-185, as corrected by Public Law 104-200, established that owners of operating rights or lease record title (referred to as “lessees”) are responsible for making royalty and related payments on Federal oil and gas leases. It is common, however, for a payor rather than a lessee to make these payments. When a payor makes payments on behalf of a lessee, RSFA requires that the lessee designate the payor as its designee and notify MMS of this arrangement in writing. These RSFA requirements are codified in 30 CFR 218.52. MMS designed Form MMS-4425, Designation Form, to contain all the information necessary for lessees to comply with these RSFA requirements. We are proposing a minor revision to Form MMS-4425 to remove the field for revenue source code. This revision is necessary to make Form MMS-4425 compatible with other forms, such as the Form MMS-2014, Report of Sales and Royalty Remittance, that were revised as a result of a major reengineering of MMS's financial and compliance processes and the procurement of a new computer system.

Regulations at 30 CFR 218.53 provide requirements that payors must follow to recoup overpayments on Indian mineral leases. These regulations are necessary for MMS to carry out its Indian trust responsibilities. Generally, a payor may recoup an overpayment on Form MMS-2014 against the current month's royalties or other revenues owed on the same Tribal lease. However, 30 CFR 2l8.53(b) allows payors with written permission from the Tribe to recoup overpayments in the same month against a different lease for which the Tribe is the lessor. The payor must furnish a copy of the Tribe's written permission to MMS.

The Federal Oil and Gas Royalty Management Act of 1982 (FOGRMA) at 30 U.S.C. 1723, authorizes the Secretary of the Interior to pay a reward to certain individuals who provide information to the Government leading to the recovery of royalty or other payments owed to the United States from oil and gas leases on Federal lands or the Outer Continental Shelf. Criteria and procedures covering claims for, and payment of, rewards are provided at 30 CFR 218.57. In order to claim a reward, individuals must voluntarily, and of their own initiative, submit Form MMS-4280, Application for Reward for Original Information, to MMS.

Submission of the information in this collection is necessary to comply with FOGRMA and RSFA requirements and to carry out MMS's Indian trust responsibilities. Proprietary information that is submitted is protected, and there are no questions of a sensitive nature included in this information collection.

Frequency: On occasion.

Estimated Number and Description of Respondents: 1,607 oil and gas reporters.

Estimated Annual Reporting and Recordkeeping “Hour” Burden: 1,207 hours. See the following chart for a breakdown of the burden estimate by CFR section and paragraph.

30 CFR section | Reporting requirement | Burden hours per response | Annual number of responses | Annual burden hours
218.52(a), (c), and (d) | If you are a lessee under 30 U.S.C. 1701(7), and you want to designate a person to make all or part of the payments due under a lease on your behalf * * * you must notify MMS * * * in writing of such designation * * *. If you want to terminate a designation * * * you must provide [notice] to MMS in writing * * *. MMS may require you to provide notice when there is a change in your record title or operating rights ownership | .75 | 1,600 | 1,200
218.53(b) | With written permission authorized by tribal statute or resolution, a payor may recoup an overpayment against royalties or other revenues owed * * * under other leases * * * A copy of the tribe's written permission must be furnished to MMS * * * | 1 | 6 | 6
218.57(a) and (b) | If a person has any information he or she believes would be valuable to MMS, that person * * * should submit the information in writing, in the form of a letter * * * The informant should provide all data * * * To file a claim for reward, the informant must: (i) Notify the Director, MMS * * * that he/she is claiming a reward. (ii) Request an Application for Reward for Original Information” (Form MMS-4280) * * * File a claim for reward by completing Form MMS-4280, sign it * * * and mail or deliver it in person to the Director * * * The person should attach proof to the claim that he or she is the person who gave the information * * * | 1 | 1 | 1
Total |  |  | 1,607 | 1,207

Estimated Annual Reporting and Recordkeeping “Non-hour” Burden: We have identified no “non-hour cost” burden.

Comments: Section 3506(c)(2)(A) of the PRA (44 U.S.C. 3501, et seq.) requires each agency “* * * to provide notice * * * and otherwise consult with members of the public and affected agencies concerning each proposed collection of information * * *.” Agencies must specifically solicit comments to (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 16, 2002, we published a Federal Register notice (67 FR 2235) with the required 60-day comment period announcing that we would submit this ICR to OMB for approval. We did not receive any comments on the notice. We will provide a copy of the ICR to you without charge upon request.

If you wish to comment in response to this notice, please send your comments directly to the offices listed under the ADDRESSES section of this notice. OMB has up to 60 days to approve or disapprove the information collection but may respond after 30 days. Therefore, to ensure maximum consideration, OMB should receive your comments by June 7, 2002. The PRA provides that an agency may not conduct or sponsor, and a person is not required to respond to, a collection of information unless it displays a currently valid OMB control number.

Public Comment Policy: We will make copies of these comments, including names and home addresses of respondents, available for public review during regular business hours at our offices in Lakewood, Colorado.

Individual respondents may request that we withhold their home address from the record, which we will honor to the extent allowable by law. There may be circumstances in which we would withhold from the record a respondent's identity, as allowable by the law. If you wish us to withhold your name and/or address, you must state this prominently at the beginning of your comments. However, we will not consider anonymous comments. We will make all submissions from organizations or businesses, and from individuals identifying themselves as representatives or officials of organizations or businesses, available for public inspection in their entirety.

MMS Information Collection Clearance Officer: Jo Ann Lauterbach, telephone (202) 208-7744

Dated: April 12, 2002.
Lucy Querques Denett,
Associate Director for Minerals Revenue Management.

[FR Doc. 02-11478 Filed 5-7-02; 8:45 am]

BILLING CODE 4310-MR-P